DEPARTMENT OF COMMERCE

Foreign-Trade Zones Board

[Docket No. 29-2005]

Proposed Foreign-Trade Zone, Athens, TX, Application and Public Hearing

An application has been submitted to the Foreign-Trade Zones Board (the Board) by the Athens Economic Development Corporation, Texas, to establish a general-purpose foreign-trade zone at sites in Athens, Texas, adjacent to the Dallas/Ft. Worth Customs port of entry. The application was submitted pursuant to the provisions of the FTZ Act, as amended (19 U.S.C. 81a-81u), and the regulations of the Board (15 CFR part 400). It was formally filed on June 9, 2005. The applicant is authorized to make the proposal under Texas Revised Civil Statutes Article 1446.01.

The proposed zone would consist of 2 sites covering 186 acres in Athens, Texas: Site 1 (127 acres)—Athens Industrial Park, 1621 Enterprise Street, Athens, Site 2 (59 acres)—Henderson Industrial Part, 1380 Flat Creek Road, Athens. The sites are owned by a number of public and private corporations.

The application indicates a need for zone services in Athens, Texas. Several firms have indicated an interest in using zone procedures for warehousing/distribution activities for such products as medical and pet products. Specific manufacturing requests are not being sought at this time. Requests would be made to the Board on a case-by-case basis.

In accordance with the Board's regulations, a member of the FTZ staff has been designated examiner to investigate the application and report to the Board.

As part of the investigation, the Commerce examiner will hold a public hearing on July 13th, 2005, 10 a.m., at the Cain Center, 915 South Palestine Street, Athens, Texas 75751.

Public comment on the application is invited from interested parties. Submissions (original and 3 copies) shall be addressed to the Board's Executive Secretary at one of the following locations:

1. Submissions via Express/Package Delivery Services: Foreign-Trade Zones Board, U.S. Department of Commerce, Franklin Court Building-Suite 4100W, 1099-14th Street, NW., Washington, DC 20005; or

2. Submissions via the U.S. Postal Service: Foreign-Trade Zones Board, U.S. Department of Commerce, FCB—Suite 4100W, 1401 Constitution Avenue, NW., Washington, DC 20230.

The closing period for their receipt is August 15, 2005. Rebuttal comments in response to material submitted during the foregoing period may be submitted during the subsequent 15-day period (to August 29, 2005.

A copy of the application and accompanying exhibits will be available for public inspection at the Office of Foreign-Trade Zones Board's Executive Secretary at the first address listed above, and at Athens Economic Development Corporation, 100 W. Tyler Street, Athens, TX 75751.

Dated: June 9, 2005.
Dennis Puccinelli,
Executive Secretary.

[FR Doc. 05-11817 Filed 6-14-05; 8:45 am]

BILLING CODE 3510-05-M